DEPARTMENT OF THE INTERIOR

National Park Service

36 CFR Part 7

[NPS-WHIS-NPS38501; PX.P0234207B.00.1-PPPWWHISM0-PFE00FEPR.YP0000]

RIN 1024-AE52

Whiskeytown Unit, Whiskeytown-Shasta-Trinity National Recreation Area; Bicycling

AGENCY: National Park Service, Interior.

ACTION: Proposed rule.

SUMMARY: The National Park Service proposes to amend the special regulations for Whiskeytown National Recreation Area to allow bicycle use on approximately 79.8 miles of multi-use trails. National Park Service regulations require promulgation of a special regulation to allow bicycles on new trails outside of developed areas and for existing trails that require construction or significant modification to accommodate bicycles.

DATES: Comments on the proposed rule must be received by 11:59 p.m. EDT on February 28, 2025.

ADDRESSES: You may submit comments, identified by Regulation Identifier Number (RIN) 1024-AE52, by either of the following methods:

(1) Electronically: Go to the Federal eRulemaking Portal: https://www.regulations.gov. Follow the instructions for submitting comments.

(2) By hard copy: Mail to: Superintendent, Whiskeytown National Recreation Area, P.O. Box 188, Whiskeytown, CA 96095.

Document Availability: The Trails Management Plan and Environmental Assessment and the Finding of No Significant Impact provide information and context for this proposed rule and are available online at https://parkplanning.nps.gov/whis by clicking the link entitled “All Docs & Projects,” then clicking the link entitled “Whiskeytown NRA Trails Management Plan,” and then clicking the link entitled “Document List.”

Instructions: Comments will not be accepted by fax, email, or in any way other than those specified above. All submissions received must include the words “National Park Service” or “NPS” and must include the docket number or RIN (1024-AE52) for this rulemaking. Comments received may be posted without change to https://www.regulations.gov, including any personal information provided.

Docket: For access to the docket to read background documents or comments received, go to https://www.regulations.gov and search for “1024-AE52”.

FOR FURTHER INFORMATION CONTACT: Laura Shaskey, Division Manager, Resources and Interpretation, Whiskeytown National Recreation Area; phone: 530-242-3457; email: Laura_Shaskey@nps.gov. Individuals in the United States who are deaf, deafblind, hard of hearing, or have a speech disability may dial 711 (TTY, TDD, or TeleBraille) to access telecommunications relay services. Individuals outside the United States should use the relay services offered within their country to make international calls to the point-of-contact in the United States. In compliance with the Providing Accountability Through Transparency Act of 2023, the plain language summary of the proposal is available on Regulations.gov in the docket for this rulemaking.

SUPPLEMENTARY INFORMATION:

Background

Purpose and Management Authority for the Recreation Area

Congress established the Whiskeytown-Shasta-Trinity National Recreation Area in 1965 for public outdoor recreation, use and enjoyment. 16 U.S.C. 460q. Congress directed the Secretary of the Interior to administer the Whiskeytown unit and directed the Secretary of Agriculture to administer the Shasta and Trinity units. The National Park Service (NPS) administers the Whiskeytown unit, on the behalf of the Secretary of the Interior, as the Whiskeytown National Recreation Area (referred to in this document as the “recreation area”). The U.S. Forest Service manages the Shasta and Trinity units, on behalf of the Secretary of Agriculture, as the Shasta-Trinity National Recreation Area. Each bureau is required to administer their units in a manner that will best provide for public outdoor recreation benefits and conserve the scenic, scientific, historic, and other values that contribute to public enjoyment. 16 U.S.C. 460q-3. In addition to the enabling legislation described above, the NPS manages the recreation area pursuant to the NPS Organic Act of 1916, which gives the NPS broad authority to regulate the use of the lands and waters that it administers as part of the National Park System. See 54 U.S.C. 100101; 100751(a).

Significance and Visitor Use of the Recreation Area

The recreation area encompasses 42,497 acres in Shasta County, nestled within the Klamath Mountains in Northern California. The recreation area has diverse ecosystems ranging from oak scrubland to dense coniferous forests, with elevations ranging from 800 feet in lower Clear Creek to more than 6,200 feet atop Shasta Bally. This dynamic landscape, range in elevation, rugged topography, and numerous soil types contribute to a rich biodiversity. These habitats provide shelter and sustenance to an abundant and diverse wildlife community, including numerous species of concern and other rare species. High-elevation forests have been profoundly influenced by wildland fire. Fire management continues to play a key role in the preservation and restoration of natural communities in the recreation area.

The recreation area includes significant cultural resources. For thousands of years before the arrival of European Americans, the Wintu People and their ancestors lived in villages along Clear Creek and its tributaries. Archeological remains document their extensive habitation and use of the land, and traditional ties to the recreational area remain among contemporary Wintu. In the early part of the 19th century, European explorers and trappers began visiting the upper Sacramento Valley and Wintu homelands. They were soon followed by parties of settlers on their way to central California and Oregon, and in 1848 gold was discovered on Clear Creek just south of the recreation area. During the 100-year gold rush, lands within the recreation area were subject to intensive mining exploration and development. This history of mining is evident throughout the recreation area.

In the early 1900s, the United States Government began establishing the Central Valley Project to manage the water of the Sacramento River and provide for its use in the Central Valley of California. The construction of Whiskeytown Dam in 1962 created Whiskeytown Lake. With 36 miles of shoreline, the crystal-clear water of Whiskeytown Lake is perhaps the most recognized feature of the recreation area. Due to its forested, mountain setting and consistent water level, the lake provides high-quality recreational opportunities throughout the primary recreation season. Visitors enjoy swimming, beaches, lakeside camping, boating, sport fishing, and picnicking. Beyond the shoreline of the lake, the rugged canyons, forests, streams, and waterfalls within the recreation area provide visitors with outstanding recreational opportunities. An extensive trail system allows visitors to experience a variety of forested terrain for birdwatching, camping, picnicking, wildlife viewing, hiking, horseback riding, and bicycling. Trails are located primarily upon historic logging and mining infrastructure south, east, and west of Whiskeytown Lake. In total, more than 800,000 visitors come to enjoy the recreation area each year, including casual sightseers, experienced adventurers and everyone in between.

Bicycle Use in the Recreation Area

Bicycle use has occurred in the recreation areas for several decades. Today, bicycles are used on roads that are open to public motor vehicle use, on 42.2 miles of administrative roads that are closed to motor vehicle use by the public but open to motor vehicle use by the NPS for administrative purposes, and on the majority of trails in the existing trail system. Public roads, administrative roads, and trails that are open to traditional bicycles are also open to Class 1 electric bicycles, which are defined in NPS regulations as an electric bicycle equipped with a motor that provides assistance only when the rider is pedaling, and that ceases to provide assistance when the bicycle reaches the speed of 20 miles per hour. Class 2 and 3 electric bicycles are not allowed on trails or administrative roads within the recreation area, however they are permitted on roads that are open to public motor vehicle use. The trails identified below are closed to bicycle use:

• All portions of the Shasta Divide Nature Trail between Kennedy Memorial Drive and Whiskeytown Lake.

• All portions of the Davis Gulch Trail between the trailheads at Kennedy Memorial Drive and the Brandy Creek Day Use Area.

• All portions of the Crystal Creek Water Ditch Trail.

• James K. Carr Trail to Whiskeytown Falls (from Mill Creek Trail junction to the falls).

• Boulder Creek Falls Trail.

• The portion of Brandy Creek Falls Trail beyond the intersection with Rich Gulch Trail.

Other trails in the network are reserved for use by the Whiskeytown Environmental School (WES) and are not open to the public. These WES-only trails are the Ladybug Lane Trail, Martha's Ditch Trail and the Ridge Trail.

Trails Management Plan Environmental Assessment

With the growth of the city of Redding eight miles to the east, the recreation area has transitioned from a wildland setting to an urban location that offers recreation opportunities for the largest metropolitan area in the northern Sacramento Valley. Facilities and infrastructure within the recreation areas were primarily constructed in the 1960s and were not designed to accommodate current levels of visitation. To address emerging management challenges and accommodate current levels of visitation, the NPS initiated a comprehensive trail management project to help guide, plan, and manage trail use and maintenance within the recreation area. In 2017 the NPS sought public input on the existing trail system. The NPS used this input to develop preliminary alternatives for a trails management plan. In 2018 the Carr Fire burned approximately 39,000 out of 42,000 acres within the recreation area. To date, this is the most destructive fire in the history of the National Park System. The entire recreation area was closed and NPS resources were diverted to the rebuilding effort. NPS staff, partners, and contractors have made significant headway in rebuilding lost infrastructure and reopening much of the recreation area. As of August 2024 approximately 9% of the trails remain closed because of the fire. The NPS will continue to reopen trails provided there are no safety or resource issues associated with using the trails after the fire.

In 2020 the NPS restarted the trail planning process, with alternatives that were revised to reflect the changed landscape and address the need for long term solutions to poorly designed and unsustainable trails. On June 8, 2021, the NPS published the Trails Management Plan and Environmental Assessment and accepted public comments for 30 days. In February 2022 the NPS issued a revised Trails Management Plan and Environmental Assessment (EA) to reflect updated trail mileages and additional best management practices. The EA describes one action alternative (the preferred alternative) and the no-action alternative. The no-action alternative would continue the existing management of the trail system into the future. The action alternative would involve trail construction, including building new trails, rerouting some existing trails, and restoring other existing trails to natural condition. The EA evaluates the suitability of each trail surface and soil conditions for accommodating bicycle use; and life cycle maintenance costs, safety considerations, methods to prevent or minimize user conflict, and methods to protect natural and cultural resources and mitigate impacts associated with bicycle use on each trail. The EA contains a full description of the purpose and need for taking action, the alternatives considered, a map of the affected area, and the environmental impacts associated with the project.

On March 11, 2022, the Regional Director for DOI Unified Regions 8, 9, 10 and 12 signed a Finding of No Significant Impact (FONSI) that identified the preferred alternative in the EA as the selected alternative.¹ Trail work will occur on approximately 32.8 miles of trails and will include minor improvements to existing trails, the construction of new multiuse trails, the rerouting of some existing trails, and trail closures and restoration to natural conditions. The longest new trail, the proposed lakefront trail, will be approximately 8 miles in length and improve access to the lake. The NPS will also establish a new trail along the Shasta Divide at the east side of the recreation area, offering views of Mount Shasta and the Lassen Peak. The NPS also will formalize three social trails by merging them into one mile of new trail. All of the new trails will connect to existing trails to create more trail loops. The new trails will generate opportunities for new and diverse visitor experiences in different locations in the recreation area.

¹ During the NEPA process, the NPS evaluated the impacts of bicycle use on all trails where the NPS proposes to authorize their use in this rulemaking. The NPS acknowledges minor trail mileage discrepancies between the FONSI and this proposed rule. Small discrepancies in GIS estimates are reasonable and expected. The differing mileage estimates between documents are a result of simple addition and rounding errors as well as improved data quality and increased accuracy in GIS layers.

The NPS will reroute seven multiuse trails because the existing routes have become unsustainable due to erosive soils or soil compaction, steep alignment, and undesirable visitor experiences. The new routes will have a more sustainable alignment and capacity for use. Other trails totaling 5.1 miles will be closed and not rerouted, which will allow those areas to return to their natural condition. In total, the selected alternative will expand the trail network and result in approximately 79.8 miles of trails open to bicycle use within the recreation area.

NPS Management of Bicycle Use

From 1966 until 1987 NPS regulations allowed bicycles on trails in recreation areas unless they were restricted by posted signs or markings on a map. See 31 FR 16650 (December 29, 1966) and 39 FR 11882 (April 1, 1974). In 1987 the NPS replaced what had been an “open unless closed” management framework for bicycle use in recreation areas with a framework that required that the NPS promulgate a special regulation in order to allow bicycles in any System unit on routes outside of developed areas and special use zones. Further, routes could only be designated for bicycle use upon a determination that such use was consistent with the protection of a park area's natural scenic and aesthetic values, safety considerations and management objectives and would not disturb wildlife or park resources. See 52 FR 10685 (April 2, 1987).

In 2012 the NPS amended its regulations for bicycle use again. These amended regulations are in place today and are codified at 36 CFR 4.30. These regulations focus on planning and environmental compliance under the National Environmental Policy Act (NEPA). Bicycles are allowed by default on park roads and parking areas open to public motor vehicles. Bicycles may be allowed on administrative roads that are closed to motor vehicle use by the public but open to motor vehicle use by the NPS for administrative purposes, but only after the Superintendent makes the same determination that has been required since 1987 (see above). The use of bicycles on trails is subject to a thorough review and approval process. The NPS must complete a planning process that evaluates bicycle use on each specific trail, including impacts to trail surface and soil conditions, maintenance costs, safety considerations, potential user conflicts, and methods to protect resources and mitigate impacts. The NPS also must complete either an environmental assessment or environmental impact statement that concludes that bicycle use in the park and on each specific trail will have no significant impacts on the environment. If an environmental assessment is prepared, the public must be notified and provided 30 days to review and comment. In addition to the planning and NEPA compliance documents (which are typically the same document), the Superintendent must prepare and the regional director must approve the same written determination about bicycle use that is required for administrative roads. For existing trails or new trails within developed areas, the NPS must publish the written determination in the Federal Register for a 30-day public comment period. For all trails, including new trails outside of developed areas, the Regional Director must approve the written determination. For new trails outside of developed areas, the NPS must publish a special regulation designating the trails for bicycle use, which is subject to a separate notice-and-comment period under the Administrative Procedure Act. 5 U.S.C. 553(b). New trails, whether they are in developed areas or not, must be developed and constructed in accordance with appropriate sustainable trail design principles and guidelines. Adherence to the procedures in these regulations helps ensure that bicycles are allowed only in locations where, in the judgment of the NPS, their use is appropriate and will not cause unacceptable impacts.

Proposed Rule

Compliance With NPS Regulations

This proposed rule would authorize the Superintendent to allow bicycles, by designation in the Superintendent's Compendium, on all of the trails where bicycles would be allowed under the selected alternative. This includes existing trails that are not being rerouted, existing trails that are being rerouted, and new trails that will be constructed. Although NPS regulations do not require special regulations to allow bicycles on existing trails that do not require any construction or significant modification, the NPS proposes to include those trails in the special regulation so that all of the trails that may be designated for bicycle use are identified in one place. The NPS expects this approach to increase compliance with the regulations by making it easier for visitors to understand where bicycles are allowed and how they can be used.

The EA constitutes the planning document and evaluates the criteria required by the regulations at 36 CFR 4.30. The no action alternative evaluates continued bicycle use on existing trails that will not be rerouted; and the action alternative evaluates the rerouting of existing trails and construction of new trails, plus the impact of bicycle use on those trails. The FONSI concludes that the development and use of the new trail system would not significantly affect the quality of the human environment.

The Superintendent of the recreation area has signed a written determination that bicycle use on all of the trails where bicycles would be allowed under the selected alternative is consistent with the protection of the park's natural, scenic, and aesthetic values; safety considerations; management objectives; and will not disturb wildlife or park resources. This written determination is available on the recreation area's planning website at https://parkplanning.nps.gov/whis by clicking the link entitled “All Docs & Projects,” then clicking the link entitled “Whiskeytown NRA Trails Management Plan,” and then clicking the link entitled “Document List.” The NPS is not publishing the written determination separately in the Federal Register but welcomes comments on the written determination during the public comment period for this proposed rule, and will consider those comments before submitting the written determination to the Regional Director for approval. The written determination also determines that continued bicycle use on administrative roads within the recreation area is consistent with the protection of the park's natural, scenic, and aesthetic values; safety considerations; management objectives; and will not disturb wildlife or park resources.

Content of the Proposed Rule

This proposed rule would add a new paragraph (e) to 36 CFR 7.91, which contains the special regulations for the recreation area. The proposed rule would authorize the Superintendent to designate 79.8 miles of trails within the recreation area for bicycle use. The proposed rule would require the Superintendent to notify the public of any designated trails through one or more of the methods identified in 36 CFR 1.7 and to identify the designated trails on maps available at visitor centers and on the recreation area's website (https://www.nps.gov/whis). The proposed rule would authorize the Superintendent to limit, restrict, or impose conditions on bicycle use, or close any trail to bicycle use, or terminate such limits, restrictions, conditions or closures, after considering public health and safety, resources protection, and other management activities and objectives. Pursuant to 36 CFR 4.30(i), the Superintendent may allow electric bicycles on any trails that are open to traditional bicycles, and will notify the public pursuant to 36 CFR 1.7 if electric bicycles are so allowed.

Compliance With Other Laws, Executive Orders and Department Policy

Regulatory Planning and Review (Executive Orders 12866 and 13563 and 14094)

Executive Order 14094 (E.O.) amends E.O. 12866 and reaffirms the principles of E.O. 12866 and E.O. 13563 and states that regulatory analysis should facilitate agency efforts to develop regulations that serve the public interest, advance statutory objectives, and are consistent with E.O. 12866 and E.O. 13563. Regulatory analysis, as practicable and appropriate, shall recognize distributive impacts and equity, to the extent permitted by law. E.O. 13563 emphasizes further that regulations must be based on the best available science and that the rulemaking process must allow for public participation and an open exchange of ideas. The NPS has developed this proposed rule in a manner consistent with these requirements.

E.O. 12866, as reaffirmed by E.O. 13563 and amended and reaffirmed by E.O. 14094, provides that the Office of Information and Regulatory Affairs (OIRA) in the Office of Management and Budget (OMB) will review all significant rules. OIRA determined that this proposed rule is not significant.

Regulatory Flexibility Act (5 U.S.C. 601 et seq.)

This proposed rule would not have a significant economic effect on a substantial number of small entities under the Regulatory Flexibility Act (5 U.S.C. 601 et seq.). This certification is based on information contained in the economic analyses found in the report entitled “Cost-Benefit and Regulatory Flexibility Threshold Analyses: Proposed Special Regulations to Designate New and Existing Trails for Bicycle Use at Whiskeytown National Recreation Area.” The report may be viewed on the recreation area's planning website at https://parkplanning.nps.gov/whis by clicking the link entitled “All Docs & Projects,” then clicking the link entitled “Whiskeytown NRA Trails Management Plan,” and then clicking the link entitled “Document List.”

Congressional Review Act (CRA)

This proposed rule is not a major rule under 5 U.S.C. 804(2). This rulemaking:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act (2 U.S.C. 1501 et seq.)

This proposed rule does not impose an unfunded mandate on State, local, or Tribal governments or the private sector of more than $100 million per year. The proposed rule does not have a significant or unique effect on State, local or Tribal governments or the private sector. It addresses public use of national park lands and imposes no requirements on other agencies or governments. A statement containing the information required by the Unfunded Mandates Reform Act (2 U.S.C. 1531 et seq.) is not required.

Takings (Executive Order 12630)

This rulemaking does not affect a taking of private property or otherwise have takings implications under Executive Order 12630. A takings implication assessment is not required.

Federalism (Executive Order 13132)

Under the criteria in section 1 of Executive Order 13132, the rulemaking does not have sufficient federalism implications to warrant the preparation of a federalism summary impact statement. This proposed rule only affects use of federally administered lands and waters. It has no direct effects on other areas. A federalism summary impact statement is not required.

Civil Justice Reform (Executive Order 12988)

This rulemaking complies with the requirements of Executive Order 12988. This rulemaking:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian Tribes through a commitment to consultation with Indian Tribes and recognition of their right to self-governance and Tribal sovereignty. The NPS has evaluated this proposed rule under the criteria in Executive Order 13175 and under the Department's Tribal consultation policy and has determined that Tribal consultation is not required because the proposed rule will have no substantial direct effect on federally recognized Indian Tribes. Nevertheless, in support of the Department of the Interior and NPS commitment for government-to-government consultation, during the EA process, the NPS worked with the Native American Heritage Commission (NAHC) to identify Tribal partners that may be interested in the trails management plan. The NPS shared information about the proposed action and copies of the draft trails management plan/EA with one federally recognized American Indian Tribe identified by the NAHC and five non-federally recognized Tribal groups. These Tribes are the Shasta Nation, Nor-Rel-Muk Nation, Redding Rancheria, Winnemem Wintu Tribe, Wintu Tribe of Northern California, and Toyon-Wintu Center Wintu Educational and Cultural Council. The proposed new trails and trail reroutes under the selected action alternative would not impact known ethnographic resources or impede tribes' ability to utilize Whiskeytown for traditional purposes. The proposed trail construction activities and routes would be designed to avoid known ethnographic resources in consultation with tribes. The NPS informed Tribal partners that the trails management plan requires regular consultation for individual actions in accordance with section 106 of the National Historic Preservation Act under 36 CFR part 800. Additional details about Tribal consultation are available in chapter 4 of the EA.

Paperwork Reduction Act of 1995 (44 U.S.C. 3501 et seq.)

This proposed rule does not contain information collection requirements, and a submission to the Office of Management and Budget under the Paperwork Reduction Act is not required. The NPS may not conduct or sponsor and you are not required to respond to a collection of information unless it displays a currently valid OMB control number.

National Environmental Policy Act of 1969 (NEPA; 42 U.S.C. 4321 et seq.)

The NPS has prepared the EA to determine whether this proposed rule will have a significant impact on the quality of the human environment under the National Environmental Policy Act of 1969. This proposed rule would not constitute a major Federal action significantly affecting the quality of the human environment. A detailed statement under the NEPA is not required because of the FONSI. A copy of the EA and FONSI can be found online at https://parkplanning.nps.gov/whis by clicking the link entitled “All Docs & Projects,” then clicking the link entitled “Whiskeytown NRA Trails Management Plan,” and then clicking the link entitled “Document List.”

Effects on the Energy Supply (Executive Order 13211)

This proposed rule is not a significant energy action under the definition in Executive Order 13211; the proposed rule is not likely to have a significant adverse effect on the supply, distribution, or use of energy, and the proposed rule has not otherwise been designated by the Administrator of OIRA as a significant energy action. A Statement of Energy Effects in not required.

Clarity of This Rule

The NPS is required by Executive Orders 12866 (section 1(b)(12)) and 12988 (section 3(b)(1)(B)), and 13563 (section 1(a)), and by the Presidential Memorandum of June 1, 1998, to write all rules in plain language. This means that each rule the NPS publishes must:

(a) Be logically organized;

(b) Use the active voice to address readers directly;

(c) Use common, everyday words and clear language rather than jargon;

(d) Be divided into short sections and sentences; and

(e) Use lists and tables wherever possible.

If you feel that the NPS has not met these requirements, send us comments by one of the methods listed in the ADDRESSES section. To better help the NPS revise the proposed rule, your comments should be as specific as possible. For example, you should identify the numbers of the sections or paragraphs that you find unclear, which sections or sentences are too long, the sections where you feel lists or tables would be useful, etc.

Public Participation

It is the policy of the Department of the Interior, whenever practicable, to afford the public an opportunity to participate in the rulemaking process. Accordingly, interested persons may submit written comments regarding this proposed rule by one of the methods listed in the ADDRESSES section of this document.

Public Availability of Comments

Before including your address, phone number, email address, or other personal identifying information in your comment, you should be aware that your entire comment—including your personal identifying information—may be made publicly available at any time.

List of Subjects in 36 CFR Part 7

National parks, Reporting and recordkeeping requirements.

In consideration of the foregoing, the National Park Service proposes to amend 36 CFR part 7 as set forth below:

PART 7—SPECIAL REGULATIONS, AREAS OF THE NATIONAL PARK SYSTEM

1. The authority citation for part 7 continues to read as follows:

Authority: 54 U.S.C. 100101, 100751, 320102; Sec. 7.96 also issued under D.C. Code 10-137 and D.C. Code 50-2201.07.

2. Amend § 7.91 by adding paragraph (e) to read as follows:

§ 7.91 Whiskeytown Unit, Whiskeytown-Shasta-Trinity National Recreation Area.

* * * * *

(e) Bicycle Use. (1) The Superintendent may designate all or a portion of the following trails as open to bicycle use:

(i) Boulder Creek Trail (approximately 3.8 miles).

(ii) Brandy Creek Falls Trail (approximately 1.1 miles between the trailhead and Rich Gulch Trail intersection).

(iii) Brandy Creek PicnicTrail (approximately 0.3 miles).

(iv) Brandy Creek RV Trail (approximately 0.2 miles).

(v) Brandy Creek Trail (approximately 2.0 miles).

(vi) Buck Hollow Trail (approximately 1.0 miles).

(vii) Camden Water Ditch Trail (approximately 1.1 miles).

(viii) Clear Creek Canal Trail (approximately 5.2 miles).

(ix) Clear Creek Picnic Trail (approximately 0.3 miles).

(x) Clear Creek Vista Trail (approximately 2.5 miles).

(xi) Crystal Creek Falls Trail (approximately 0.5 miles).

(xii) Crystal Creek Trail (approximately 2.3 miles).

(xiii) East Boundary Vista Trail (approximately 1.4 miles).

(xiv) Guardian Rock Equestrian Trail (approximately 1.3 miles).

(xv) Horse Camp Trail (approximately 0.4 miles).

(xvi) Hydraulic Mine Trail (approximately 0.5 miles).

(xvii) James K.CarrTrail (approximately 0.4 miles between the trailhead and Mill Creek Trail intersection).

(xviii) Kanaka Peak Trail (approximately 3.3 miles).

(xix) KnobconeTrail (approximately 0.3 miles).

(xx) Ladybug Lane Trail (approximately 0.3 miles, Whiskeytown Environmental School use only).

(xxi) Logging Camp Trail (approximately 0.9 miles).

(xxii) Martha's Ditch Trail (approximately 2.5 miles, Whiskeytown Environmental School use only).

(xxiii) Mill Creek Trail (approximately 3.9 miles).

(xxiv) Mount Shasta Mine Loop Trail (approximately 5.0 miles).

(xxv) Mule Mountain Loop Trail (approximately 1.2 miles).

(xxvi) Mule Mountain Pass Trail (approximately 1.3 miles).

(xxvii) Oak Bottom Water Ditch Trail (approximately 2.8 miles).

(xxviii) Orofino Trail (approximately 0.3 miles).

(xxix) Papoose Connector Trail (approximately 0.2 miles).

(xxx) Papoose Pass Trail (approximately 5.2 miles).

(xxxi) Peltier Bridge Trail (approximately 0.6 miles).

(xxxii) Peltier Trail (approximately 2.5 miles).

(xxxiii) Princess Ditch Trail (approximately 2.1 miles).

(xxxiv) Prospect Trail (approximately 1.1 miles).

(xxxv) Rich Gulch Trail (approximately 2.4 miles).

(xxxvi) Ridge Trail (approximately 1.8 miles, Whiskeytown Environmental School use only).

(xxxvii) Salt Gulch Trail (approximately 2.0 miles, connecting Peltier Trail to Rich Gulch Trail).

(xxxviii) Shasta Divide Trail (approximately 7.0 miles, connecting the Visitor Center with the NPS and BLM trail system in the area of Mule Mountain).

(xxxix) Tower Grave Trail (approximately 0.2 miles).

(xl) WES Camp Emergency Access Road (approximately 0.6 miles).

(xli) Whiskeytown Lake Trail (approximately 8.0 miles, connecting the Brandy Creek area with Carr Powerhouse area).

(2) The Superintendent may authorize bicycle use on administrative roads within the recreation area pursuant to § 4.30(b) of this chapter.

(3) A map showing trails and administrative roads open to bicycle use will be available at recreation area visitor centers and posted on the recreation area website. The Superintendent will provide notice of all trails and administrative roads designated for bicycle use in accordance with § 1.7 of this chapter.

(4) The Superintendent may limit, restrict, or impose conditions on bicycle use, or close any trail to bicycle use, or terminate such conditions, closures, limits, or restrictions in accordance with § 4.30 of this chapter. A violation of any such condition, closure, limit, or restriction is prohibited.

Shannon Estenoz,
Assistant Secretary for Fish and Wildlife and Parks.

[FR Doc. 2024-31207 Filed 12-27-24; 8:45 am]

BILLING CODE 4312-52-P